DEPARTMENT OF TRANSPORTATION

Federal Aviation Administration

Aviation Rulemaking Advisory Committee Meeting on Transport Airplane and Engine Issues

AGENCY: Federal Aviation Administration (FAA), DOT.

ACTION: Notice of public meeting.

SUMMARY: This notice announces a public meeting of the FAA's Aviation Rulemaking Advisory Committee (ARAC) to discuss transport airplane and engine (TAE) issues.

DATES: The meeting is scheduled for Wednesday, September 23, 2009, starting at 9 a.m. Eastern Daylight Time. Arrange for oral presentation by September 16, 2009.

ADDRESSES: The Boeing Company, 1200 Wilson Boulevard, Room 234, Arlington, Virginia 22209.

FOR FURTHER INFORMATION CONTACT: Ralen Gao, Office of Rulemaking, ARM-209, FAA, 800 Independence Avenue, SW., Washington, DC 20591, Telephone (202) 267-3168 FAX (202) 267-5075, or e-mail at relan.gao@faa.gov.

SUPPLEMENTARY INFORMATION: Pursuant to Section 10(a)(2) of the Federal Advisory Committee Act (Pub. L. 92-463; 5 U.S.C. app. III), notice is given of an ARAC meeting to be held September 23, 2009.

The agenda for the meeting is as follows:

• Opening Remarks, Review Agenda and Minutes;

• FAA Report;

• Airplane-level Safety Analysis WG Report;

• Task 4 Status

• EXCOM Report;

• Transport Canada Report;

• Airworthiness Assurance HWG Report;

• Ice Protection HWG Report;

• Avionics HWG Report;

• Any Other Business;

• Action Item Review.

Attendance is open to the public, but will be limited to the availability to meeting room space. Please confirm your attendance with the person listed in the For Further Information Contact section no later than September 16, 2009. Please provide the following information. Full legal name, country of citizenship, and name of your industry association, or applicable affiliation. If you are attending as a public citizen, please indicate so.

For persons participating by telephone, Please Contact Ralen Gao by e-mail or phone for the teleconference call-in number and passcode. Anyone calling from outside the Arlington VA, metropolitan area will be responsible for paying long-distance charges.

The public must make arrangements by September 16, 2009, to present oral statements by the meeting. Written statements may be presented by the ARAC at any time by providing 25 copies to the person listed in the For Further Information Contact section or by providing copies at the meeting. Copies of the documents to be presented to ARAC may be made available by contacting the person listed in the For Further Information Contact section.

If you need assistance or require an reasonable accommodation for the meeting or meeting documents, please contact the person listed in the For Further Information Contact section. Sign and oral interpretation, as well as a listening device, can be made available if requested 10 calendar days before the meeting.

Issued in Washington, DC, on August 26, 2009.
Julie Ann Lynch,
Acting Director, Office of Rulemaking.

[FR Doc. E9-20959 Filed 8-28-09; 8:45 am]

BILLING CODE 4910-13-P